INTERNATIONAL TRADE COMMISSION

[Investigations Nos. 701-TA-415 and 731-TA-933-934 (Preliminary)]

Polyethylene Terephthalate Film, Sheet, and Strip From India and Taiwan

Determinations

On the basis of the record ¹ developed in the subject investigations, the United States International Trade Commission determines, pursuant to sections 703(a) and 733(a) of the Tariff Act of 1930 (19 U.S.C. 1671(a) and 19 U.S.C. 1673b(a)) (the Act), respectively, that there is a reasonable indication that an industry in the United States is materially injured by reason of imports from India of polyethylene terephthalate film, sheet, and strip (PET film), provided for in subheading 3920.62.00 of the Harmonized Tariff Schedule of the United States, that are alleged to be subsidized by the Government of India and by reason of imports from India and Taiwan of PET film that are alleged to be sold in the United States at less than fair value (LTFV).

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce of affirmative preliminary determinations in the investigations under sections 703(b) and 733(b) of the Act, or, if the preliminary determinations are negative, upon notice of affirmative final determinations in those investigations under sections 703(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On May 17, 2001, a petition was filed with the Commission and Commerce by DuPont Teijin Films, Wilmington, DE, Mitsubishi Polyester Film of America, Greer, SC, and Toray Plastics (America), Inc., North Kensington, RI, alleging that an industry in the United States is materially injured and threatened with material injury by reason of imports of PET film from India and Taiwan that are alleged to be sold in the United States at LTFV and that are alleged to be subsidized by the Government of India. Accordingly, effective May 17, 2001, the Commission instituted countervailing duty investigation 701-TA-415 (Preliminary) and antidumping duty investigations Nos. 731-TA-933-934 (Preliminary).

Notice of the institution of the Commission's investigations and of a public conference to be held in connection therewith was given by posting copies of the notice in the Office of the Secretary, U.S. International Trade Commission, Washington, DC, and by publishing the notice in the Federal Register of May 29, 2001 (66 FR 29174). The conference was held in Washington, DC, on June 7, 2001, and all persons who requested the opportunity were permitted to appear in person or by counsel.

The Commission transmitted its determination in these investigations to the Secretary of Commerce on July 2, 2001. The views of the Commission are contained in USITC Publication 3437 (July 2001), entitled Polyethylene Terephthalate Film from India and Taiwan: Investigations Nos. 701-TA-415 and 731-TA-933-934 (Preliminary).

Issued: July 6, 2001.
By order of the Commission.
Donna R. Koehnke,
Secretary.

[FR Doc. 01-17345 Filed 7-10-01; 8:45 am]

BILLING CODE 7020-02-P